DEPARTMENT OF HOMELAND SECURITY

Federal Emergency Management Agency

[Docket ID: FEMA-2017-0011; 1660-0011]

Agency Information Collection Activities: Submission for OMB Review; Comment Request; Debt Collection Financial Statement

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 2, 2017.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Records Management Division, 500 C Street SW., Washington, DC 20472-3100, or email address FEMA-Information-Collections-Management@fema.dhs.gov. Or, Jackie Cohen, Chief, Debt Management Unit, FEMA Finance Center, Office of the Chief Financial Officer, FEMA at (540) 504-1650.

SUPPLEMENTARY INFORMATION: This information collection previously published in the Federal Register on April 17, 2017 at 82 FR 18154 with a 60 day public comment period. No comments were received. FEMA has revised the numbers for the annual cost to the Federal government between the information collection previously published with a 60 day public comment period and this information collection. The annual cost to the Federal government is now $49,570.00. The purpose of this notice is to notify the public that FEMA will submit the information collection abstracted below to the Office of Management and Budget for review and clearance.

Collection of Information

Title: Debt Collection Financial Statement.

Type of Information Collection: Revision of a currently approved information collection.

OMB Number: 1660-0011.

Form Titles and Numbers: FEMA Form 127-0-1, Debt Collection Financial Statement.

Abstract: FEMA may request debtors to provide personal financial information on FEMA Form 127-0-1 concerning their current financial position. FEMA uses this information to determine whether to compromise, suspend, or completely terminate collection efforts on respondents' debts. This information is also used to locate debtor's assets if the debts are sent for judicial enforcement.

Affected Public: Individuals or households.

Estimated Number of Respondents: 300.

Estimated Total Annual Burden Hours: 225 hours.

Estimated Cost: The estimated annual cost to respondents for the hour burden is $7,632.00. There are no annual costs to respondents' operations and maintenance costs for technical services. There are no annual start-up or capital costs. The cost to the Federal Government is $49,570.00.

Dated: June 22, 2017.
Richard W. Mattison,
Records Management Program Chief, Mission Support, Federal Emergency Management Agency, Department of Homeland Security.

[FR Doc. 2017-13847 Filed 6-30-17; 8:45 am]

BILLING CODE 9111-19-P